DEPARTMENT OF HEALTH AND HUMAN SERVICES

45 CFR Part 98

Child Care and Development Fund (CCDF) Program; Reopening of Comment Period

AGENCY: Administration for Children and Families, Department of Health and Human Services.

ACTION: Proposed rule; reopening of comment period.

SUMMARY: The Administration for Children and Families within the U.S. Department of Health and Human Services (HHS) is reopening and extending the period to submit comments on the proposed rule for the Child Care and Development Fund (CCDF), published in the Federal Register of May 20, 2013. The proposed rule makes changes to the CCDF regulatory provisions in order to strengthen health and safety requirements for child care providers, reflect current State and local practices to improve the quality of child care, infuse new accountability for Federal tax dollars, and leverage the latest knowledge and research in the field of early care and education to better serve low-income children and families.

DATES: The comment period for the proposed rule that published May 20, 2013 (78 FR 29441), is reopened. Comments will be received through August 23, 2013. To receive consideration comments must be received no later than 11:59 p.m. E.D.T. on that date.

ADDRESSES: You may submit written comments to the following address: Office of Child Care, 370 L'Enfant Promenade SW., Washington, DC 20024, Attention: Cheryl Vincent, Office of Child Care, or electronically via the Internet at: http://www.regulations.gov.

FOR FURTHER INFORMATION CONTACT: Cheryl Vincent, Office of Child Care, 202-205-0750 (not a toll-free call). Deaf and hearing impaired individuals may call the Federal Dual Party Relay Service at 1-800-877-8339 between 8 a.m. and 7 p.m. Eastern Time.

SUPPLEMENTARY INFORMATION: HHS published a proposed rule for the Child Care and Development Fund (CCDF) in the Federal Register on May 20, 2013 (78 FR 29441) with a deadline for public comments on April 5, 2013 by 11:59 p.m. E.D.T. The Web site for submitting public comments, http://www.regulations.gov, experienced technical difficulties and was unavailable for periods of time during the several days prior to this deadline and many commenters reported difficulty submitting their comments using this mechanism. In addition, the site was shut down for maintenance at 6 p.m. E.D.T. on Monday, August 5th shortening the time allowed for submitting public comment. Therefore, HHS is re-opening the comment period for 10 days to ensure all interested parties have an opportunity to submit comment on the proposed rule.

Dated: August 9, 2013.
Kathleen Sebelius,
Secretary.

[FR Doc. 2013-19704 Filed 8-12-13; 8:45 am]

BILLING CODE 4150-28-P